UNITED STATES INSTITUTE OF PEACE

Notice of Meeting

AGENCY: United States Institute of Peace.

Date/Time: Thursday, October 13, 2009. 9:15 a.m.-3:15 p.m.

Location: 1200 17th Street, NW., Suite 200, Washington, DC 20036-3011.

Status: Open Session—Portions may be closed pursuant to Subsection (c) of section 552(b) of Title 5, United States Code, as provided in subsection 1706(h)(3) of the United States Institute of Peace Act, Public Law 98-525.

Agenda: October 13, 2009 Board Meeting; Approval of Minutes of the One Hundred Thirty-Fourth Meeting (July 23-24, 2009) of the Board of Directors; Chairmans Report; Presidents Report; Finalizing the strategic plan; Selection of National Peace Essay contest topics; Updates on Afghanistan/Pakistan, Sudan and Prevention Work; Other General Issues.

Contact: Tessie F. Higgs, Executive Office, Telephone: (202) 429-3836.

Dated: September 25, 2009.
Michael B. Graham,
Vice President for Management, United States Institute of Peace.

[FR Doc. E9-23599 Filed 9-30-09; 8:45 am]

BILLING CODE 6820-AR-M